DEPARTMENT OF THE INTERIOR

National Park Service

[NPS-WASO-NAGPRA-NPS0031017; PPWOCRADN0-PCU00RP14.R50000]

Notice of Inventory Completion: Ball State University, Department of Anthropology, Muncie, IN

AGENCY: National Park Service, Interior.

ACTION: Notice.

SUMMARY: The Ball State University, Department of Anthropology has completed an inventory of human remains and associated funerary objects in consultation with the appropriate Indian Tribes or Native Hawaiian organizations, and has determined that there is no cultural affiliation between the human remains and associated funerary objects and any present-day Indian Tribes or Native Hawaiian organizations. Representatives of any Indian Tribe or Native Hawaiian organization not identified in this notice that wish to request transfer of control of these human remains and associated funerary objects should submit a written request to the Ball State University, Department of Anthropology. If no additional requestors come forward, transfer of control of the human remains and associated funerary objects to the Indian Tribes or Native Hawaiian organizations stated in this notice may proceed.

DATES: Representatives of any Indian Tribe or Native Hawaiian organization not identified in this notice that wish to request transfer of control of these human remains and associated funerary objects should submit a written request with information in support of the request to the Ball State University, Department of Anthropology at the address in this notice by November 27, 2020.

ADDRESSES: Kevin C. Nolan, Ball State University, Department of Anthropology, 2000 University Avenue, Muncie, IN 47306, telephone (765) 285-5325, email kcnolan@bsu.edu.

SUPPLEMENTARY INFORMATION: Notice is here given in accordance with the Native American Graves Protection and Repatriation Act (NAGPRA), 25 U.S.C. 3003, of the completion of an inventory of human remains and associated funerary objects under the control of the Ball State University, Department of Anthropology, Muncie, IN. The human remains and associated funerary objects were removed from the vicinities of Strawtown, Hamilton County and Middletown, Henry County, IN.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the Ball State University, Department of Anthropology professional staff in consultation with representatives of the Citizen Potawatomi Nation, Oklahoma; Delaware Nation, Oklahoma; Eastern Shawnee Tribe of Oklahoma; Hannahville Indian Community, Michigan; Miami Tribe of Oklahoma; and the Pokagon Band of Potawatomi Indians, Michigan and Indiana (hereafter referred to as “The Consulted Tribes”).

The Absentee-Shawnee Tribe of Indians of Oklahoma; Bad River Band of the Lake Superior Tribe of Chippewa Indians of the Bad River Reservation, Wisconsin; Bay Mills Indian Community, Michigan; Cherokee Nation; Chippewa Cree Indians of the Rocky Boy's Reservation, Montana (previously listed as Chippewa-Cree Indians of the Rocky Boy's Reservation, Montana); Delaware Tribe of Indians; Eastern Band Of Cherokee Indians; Forest County Potawatomi Community, Wisconsin; Grand Traverse Band of Ottawa and Chippewa Indians, Michigan; Kaw Nation, Oklahoma; Keweenaw Bay Indian Community, Michigan; Kickapoo Traditional Tribe of Texas; Kickapoo Tribe of Indians of the Kickapoo Reservation in Kansas; Kickapoo Tribe of Oklahoma; Lac Courte Oreilles Band of Lake Superior Chippewa Indians of Wisconsin; Lac du Flambeau Band of Lake Superior Chippewa Indians of the Lac du Flambeau Reservation of Wisconsin; Lac Vieux Desert Band of Lake Superior Chippewa Indians of Michigan; Minnesota Chippewa Tribe, Minnesota (Six component reservations: Bois Forte Band (Nett Lake); Fond du Lac Band; Grand Portage Band; Leech Lake Band; Mille Lacs Band; White Earth Band); Nottawaseppi Huron Band of the Potawatomi, Michigan (previously listed as Huron Potawatomi, Inc.); Omaha Tribe of Nebraska; Ottawa Tribe of Oklahoma; Peoria Tribe of Indians of Oklahoma; Ponca Tribe of Indians of Oklahoma; Ponca Tribe of Nebraska; Prairie Band Potawatomi Nation (previously listed as Prairie Band of Potawatomi Nation, Kansas); Quapaw Nation (previously listed as The Quapaw Tribe of Indians); Quechan Tribe of the Fort Yuma Indian Reservation, California & Arizona; Red Cliff Band of Lake Superior Chippewa Indians of Wisconsin; Red Lake Band of Chippewa Indians, Minnesota; Sac & Fox Nation of Missouri in Kansas and Nebraska; Sac & Fox Nation, Oklahoma; Sac & Fox Tribe of the Mississippi in Iowa; Saginaw Chippewa Indian Tribe of Michigan; Sault Ste. Marie Tribe of Chippewa Indians, Michigan; Seneca Nation of Indians (previously listed as Seneca Nation of New York); Seneca-Cayuga Nation (previously listed as Seneca-Cayuga Tribe of Oklahoma); Shawnee Tribe; Sokaogon Chippewa Community, Wisconsin; St. Croix Chippewa Indians of Wisconsin; Stockbridge Munsee Community, Wisconsin; The Osage Nation (previously listed as Osage Tribe); Tonawanda Band of Seneca (previously listed as Tonawanda Band of Seneca Indians of New York); Turtle Mountain Band of Chippewa Indians of North Dakota; Tuscarora Nation; United Keetoowah Band of Cherokee Indians in Oklahoma; and the Wyandotte Nation (hereafter referred to as “The Invited Tribes”) were invited to consult but did not participate.

History and Description of the Remains

In 1938 or 1939, human remains representing, at minimum, two individuals were removed from the vicinity of Strawtown in Hamilton County, IN. They were excavated by Cloe Morris. In 1987, these human remains (denoted accession 87.49) were donated to the Ball State University Department of Anthropology via James Hixon. The human remains consist of the partial crania of a 25-year-old adult male and a 9-10-year-old juvenile of unknown sex. No known individuals were identified. The 97 associated funerary objects are one antler beam, 79 miscellaneous animal bone fragments, five mussel shells, eight pieces of chert debitage, three pottery sherds, and one ash sample.

In 1985, human remains representing, at minimum, two individuals were removed from the vicinity of Middletown in Henry County, IN. These individuals were recovered during a salvage effort, after the human remains were exposed and disturbed during earth moving activities on private land. These human remains were recovered from a burial pit. (Two additional burial pits lacking coffins and grave markers were reported on the site form.) While no artifacts were recovered to provide a date range, both the nature of the site and the morphology of the burial pits indicate a likely pre-Colonial period Native American occupation (the investigators, Sharon Fields and Donald Cochran, suspected a Late Archaic or Late Woodland date). Since their excavation, the human remains have been curated at the Ball State University, Department of Anthropology under accession 12-Hn-349. The human remains consist of comingled cranial and post-cranial fragments of a 29-45-year-old adult female and a 29-45-year-old adult of unknown sex. No known individuals were identified. No associated funerary objects are present.

Determinations Made by the Ball State University, Department of Anthropology

Officials of the Ball State University, Department of Anthropology have determined that:

• Pursuant to 25 U.S.C. 3001(9), the human remains described in this notice are Native American based on their association with prehistoric artifacts and animal bone, the nature of the site (12-Hn-349 is suspected Late Archaic or Late Woodland) where they were discovered, and the absence of historic Euroamerican artifacts and modern dental or surgical modifications to the human remains.

• Pursuant to 25 U.S.C. 3001(9), the human remains described in this notice represent the physical remains of four individuals of Native American ancestry.

• Pursuant to 25 U.S.C. 3001(3)(A), the 97 objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• According to final judgments of the Indian Claims Commission or the Court of Federal Claims, the land from which the Native American human remains and associated funerary objects were removed is the aboriginal land of the Delaware Nation, Oklahoma; Delaware Tribe of Indians; and the Miami Tribe of Oklahoma.

• Pursuant to 43 CFR 10.11(c)(1), the disposition of the human remains and associated funerary objects may be to the Delaware Nation, Oklahoma; Delaware Tribe of Indians; and the Miami Tribe of Oklahoma (hereafter referred to as “The Tribes”).

Additional Requestors and Disposition

Representatives of any Indian Tribe or Native Hawaiian organization not identified in this notice that wish to request transfer of control of these human remains and associated funerary objects should submit a written request with information in support of the request to Kevin C. Nolan, Ball State University, Department of Anthropology, 2000 University Avenue, Muncie, IN 47306, telephone (765) 285-5325, email kcnolan@bsu.edu, by November 27, 2020. After that date, if no additional requestors have come forward, transfer of control of the human remains and associated funerary objects to The Tribes may proceed.

The Ball State University, Department of Anthropology is responsible for notifying The Consulted Tribes and The Invited Tribes that this notice has been published.

Dated: October 9, 2020.
Melanie O'Brien,
Manager, National NAGPRA Program.

[FR Doc. 2020-23825 Filed 10-27-20; 8:45 am]

BILLING CODE 4312-52-P